DEPARTMENT OF ENERGY

Federal Energy Regulatory Commission

[Docket No. RM07-16-000]

Filing Via the Internet; Guidelines for Electronic Filing of Index of Customer Reports Under 18 CFR 284.13(c)

June 25, 2008.

Pursuant to the provisions of Commission Order No. 703, issued November 15, 2007,¹ the Quarterly Index of Customer filings under 18 CFR 284.13(c) are now eligible for efiling. Take notice that the Commission Staff is modifying the efiling menu for submission via efiling of Index of Customer tab-delimited files.

¹ Filing Via the Internet, Order No. 703, 72 FR 65659 (November 23, 2007), FERC Stats. & Regs. ¶ 61,171 ¶ 31,259 (2007) (Order No. 703).

Transmission providers submitting Index of Customer reports due July 1, 2008, and thereafter via efiling must make selections from the efiling menu in the following order:

Column 1 (How is filing to be directed?): Gas.

Column 2 (Kind of filing): Report/Form—No Docket Number.

Column 3 (Filing type): Index of Customer.

Due to certain processing actions of these submissions, there may be a slight delay in posting them on the Commission's eLibrary system. Filers will receive a Confirmation of Receipt e-mail as notification that their Index of Customer report was filed. Index of Customer report filings submitted under any menu option other than those described above will be rejected for resubmission under the correct menu choice.

The instructions for preparing the Index of Customers tab-delimited file in electronic format are on the Commission's Web site at: http://www.ferc.gov/docs-filing/eforms.asp#549b.

Kimberly D. Bose,
Secretary.

[FR Doc. E8-15088 Filed 7-2-08; 8:45 am]

BILLING CODE 6717-01-P